DEPARTMENT OF THE INTERIOR

Fish and Wildlife Service

[Docket No. FWS-HQ-IA-2025-0145; FXIA16710900000-256-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by October 9, 2025.

ADDRESSES:

Obtaining Documents: The applications, supporting materials, and any comments and other materials that we receive will be available for public inspection at https://www.regulations.gov in Docket No. FWS-HQ-IA-2025-0145.

Submitting Comments: When submitting comments, please specify the name of the applicant and the permit number at the beginning of your comment. You may submit comments by one of the following methods:

• Internet: https://www.regulations.gov. Search for and submit comments on Docket No. FWS-HQ-IA-2025-0145.

• U.S. Mail: Public Comments Processing, Attn: Docket No. FWS-HQ-IA-2025-0145; U.S. Fish and Wildlife Service Headquarters, MS: PRB/3W; 5275 Leesburg Pike; Falls Church, VA 22041-3803.

For more information, see Public Comment Procedures under SUPPLEMENTARY INFORMATION.

FOR FURTHER INFORMATION CONTACT: Timothy MacDonald, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at https://www.regulations.gov unless our allowing so would violate the Privacy Act (5 U.S.C. 552a) or Freedom of Information Act (5 U.S.C. 552).

C. Who will see my comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Applicant: University of Wyoming, Laramie, WY; Permit No. PER21495165

The applicant requests a permit to import scientific samples derived from wild Dugong (Dugong dugon) and wild bottlenose dolphin (Tursiops truncatus) from The Steinhardt Museum of Natural History in Tel Aviv, Israel, for the purpose of scientific research. This notification is for a single import.

Applicant: Cincinnati Zoo & Botanical Garden, Cincinnati, OH; Permit No. PER11734478

The applicant requests a permit to import two live captive-bred male cheetahs (Acinonyx jubatus) from the Toronto Zoo in Toronto, Canada, for the purpose of enhancing the propagation or survival of the species. This notification is for a single import.

Applicant: USFWS Texas Coastal Ecological Services Field Office, Corpus Christi, TX; Permit PER20155869

The applicant requests a permit to import one wild, rescued Kemp's ridley sea turtle (Lepidochelys kempii) from Anglesey Sea Zoo in the United Kingdom, for the purpose of enhancing the propagation or survival of the species. This notification is for a single import.

Applicant: James Pfarr, Archer, FL; Permit No. PER20464337

The applicant requests a permit to import one male captive-bred blue-billed curassow (Crax alberti) from Francy Hermans, Belgium for the purpose of enhancing the propagation or survival of the species. This notification is for a single import.

Applicant: United States Geological Survey, National Wildlife Health Center, Honolulu, HI; Permit No. PER20455458

The applicant requests authorization to import biological samples from wild, captive-held, or captive-born animals of all ESA-listed species for the purpose of scientific research. This notification covers activities to be conducted by the applicant over a 5-year period.

Applicant: U.S. Fish and Wildlife Service, Mexican Wolf Recovery Program, Albuquerque, NM; Permit No. PER20605788

The applicant requests renewal of their permit to export and re-export live Mexican wolves (Canis lupus baileyi) for breeding and re-introduction, as well as the export and re-export of biological samples for genetic studies, for the purposes of enhancement of the species and scientific research. This notification covers activities to be conducted by the applicant over a 5-year period.

Applicant: Duke University dba Duke University Lemur Center, Durham, NC; Permit No. PER20660309

The applicant requests a permit to conduct interstate and foreign commerce of animals under the ESA for captive-born and wild source animals of the family Lemuridae (lemurs), genus Avahi (wooly lemurs) and Propithecus (sifakas), Indri (Indri indri), the aye-aye (Daubentonia madagascariensis), the lesser slow loris (Nycticebus pygmaeus), and the Philippine tarsier (Tarsius syrichta). This notification covers activities to be conducted by the applicant over a 5-year period.

Applicant: Richland Lexington Riverbanks Park District dba Riverbanks Zoo & Garden, Columbia, SC; Permit No. PER20841514

The applicant requests a permit to import one live, captive-born male Komodo Island monitor (Varanus komodoensis) from The Wilder Institute Calgary Zoo in Calgary, Canada for the purpose of enhancing the propagation or survival of the species. This notification is for a single import.

Applicant: Columbus Zoo and Aquarium; Permit No. PER20976961

The applicant requests a permit to import one captive-born female tiger (Panthera tigris) from Seoul Zoo in the Republic of Korea, for the purpose of enhancing the propagation or survival of the species. This notification is for a single import.

Applicant: Saint Louis Zoo, Saint Louis, MO; Permit No. PER19410330

The applicant requests a permit to import biological samples derived from wild Galapagos tortoises (Geochelone niger) in the Galapagos Islands, Ecuador, for the purpose of scientific research. This notification covers activities to be conducted by the applicant over a 5-year period.

Applicant: Viktoria Keller c/o Christine Bacon, Jaffrey, New Hampshire; Permit No. PER20063193

The applicant requests a permit to export the plant samples, described below, to the University of Gothenburg's Department of Biological and Environmental Sciences in Gothenburg, Västra Götaland county, Sweden, for the purpose scientific research. This notification is for a single export.

Common name | Scientific name
Artificial propagated
baker's loulu | Pritchardia bakeri.
loulu | Pritchardia kaalae.
wahane | Pritchardia aylmer-robinsonii.
loulu | Pritchardia hardyi.
loulu | Pritchardia lanigera.
loulu | Pritchardia munroi.
lo'ulu | Pritchardia maideniana.
loulu | Pritchardia napaliensis.
loulu | Pritchardia schattaueri.
loulu | Pritchardia remota.
loulu | Pritchardia viscosa.
Wild harvested
baker's loulu | Pritchardia bakeri.

Applicant: The Dallas World Aquarium, Dallas, TX; Permit No. PER21322231

The applicant requests authorization to import four, live, captive-born giant otters (Pteronura brasiliensis) from Parque de las Leyendas in Lima, Peru for the purpose of enhancing the propagation or survival of the species. This notification is for a single import.

Applicant: White Oak Conservation, Yulee, FL; Permit No. PER20522169

The applicant requests a captive-bred wildlife registration under 50 CFR 17.21(g) for the following species, to enhance the propagation or survival of the species. This notification covers activities to be conducted by the applicant over a 5-year period.

Common name | Scientific name
Cheetah | Acinonyx jubatus
African wild ass | Equus africanus
Grevy's zebra | Equus grevyi
Black rhinoceros | Diceros bicornis
Great Indian rhinoceros | Rhinoceros unicornis
Southern white rhinoceros | Ceratotherium simum simum
Northern white rhinoceros | Ceratotherium simum cottoni
Babirusa | Babyrousa babyrussa
Slender-horned gazelle | Gazella leptoceros
Blue-billed curassow | Crax alberti
Andean condor | Vultur gryphus
Asian elephant | Elephas maximus

Applicant: Stevens Ranch Enterprises dba 6S River Ranch, Gatesville, TX; Permit No. PER20524437

The applicant requests a captive-bred wildlife registration under 50 CFR 17.21(g) for Arabian oryx (Oryx leucoryx), red lechwe (Kobus leche), and swamp deer (Cervus duvaucelii), to enhance the propagation or survival of the species. This notification covers activities to be conducted by the applicant over a 5-year period.

Applicant: 4J Conservation Center, Inc., Dade City, FL; Permit No. PER19946078

The applicant requests a captive-bred wildlife registration under 50 CFR 17.21(g) for black-and-white ruffed lemur (Varecia variegata) and red-ruffed lemur (Varecia rubra) to enhance the propagation or survival of the species. This notification covers activities to be conducted by the applicant over a 5-year period.

Applicant: Rock Creek Ranch dba RCR Family Ranch, LLC, Valley Spring, TX; Permit No. PER21078527

The applicant requests a captive-bred wildlife registration under 50 CFR 17.21(g) for red lechwe (Kobus leche), to enhance the propagation or survival of the species. This notification covers activities to be conducted by the applicant over a 5-year period.

Applicant: Brady Champion Ranch, LLC, Rochelle, TX; Permit No. PER21286647

The applicant requests a captive-bred wildlife registration under 50 CFR 17.21(g) for the following species, to enhance the propagation or survival of the species. This notification covers activities to be conducted by the applicant over a 5-year period.

Common name | Scientific name
Hartmann's mountain zebra | Equus zebra hartmannae.
Red lechwe | Kobus leche.
Arabian oryx | Oryx leucoryx.
Swamp deer | Cervus duvauceli.
Eld's brow-antlered deer | Cervus eldi.

Applicant: Stevens Ranch Enterprises dba 6S River Ranch, Gatesville, TX; Permit No. PER20670381

The applicant requests a permit authorizing the culling of excess Arabian oryx (Oryx leucoryx), red lechwe (Kobus leche), and swamp deer (Cervus duvaucelii) from the captive herd maintained at their facility, to enhance the species' propagation and survival. This notification covers activities to be conducted by the applicant over a 5-year period.

Applicant: Brady Champion Ranch, LLC, Rochelle, TX; Permit No. PER21295663

The applicant requests a permit authorizing the culling of excess Hartmann's mountain zebra (Equus zebra hartmannae), red lechwe (Kobus leche), Arabian oryx (Oryx leucoryx), swamp deer (Cervus duvauceli), and Eld's brow-antlered deer (Cervus eldi) from the captive herd maintained at their facility, to enhance the species' propagation and survival. This notification covers activities to be conducted by the applicant over a 5-year period.

Multiple Trophy Applicants

The following applicants request permits to import sport-hunted trophies of male bontebok (Damaliscus pygargus pygargus) culled from a captive herd maintained under the management program of the Republic of South Africa, for the purpose of enhancing the propagation or survival of the species.

• Jonathan Ballad, Nokesville, VA; Permit No. PER20504803

• Rex Burney, East Prairie, MO; Permit No. PER20514589

• Joseph Rostan, Cranberry Township, PA; Permit No. PER20624291

• Tammy A. Hudson, Magnolia, TX; Permit No. PER20666880

• Earl Wohlert, Troy, VA; Permit No. PER20835799

• Robert Neu, Mukwonago, WI; Permit No. PER20837345

• Patrick McCormick, San Diego, CA; Permit No. PER20837674

• Frank Robert Prestia Jr., Ellwood City, PA; Permit No. PER20876371

• Mark Riether, Williamstown, NJ; Permit No. PER21275462

• Roy C. Ewen, Lakebay, WA; Permit No. PER21277235

• Jeffrey Siler, Ammon, ID; Permit No. PER21278188

IV. Next Steps

After the comment period closes, we will make decisions regarding permit issuance. If we issue permits to any of the applicants listed in this notice, we will publish a notice in the Federal Register. You may locate the notice announcing the permit issuance by searching https://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Scott Carleton,
Acting Chief, Branch of Permits, Division of Management Authority, U.S. Fish and Wildlife Service.

[FR Doc. 2025-17289 Filed 9-8-25; 8:45 am]

BILLING CODE 4333-15-P